DEPARTMENT OF COMMERCE

National Oceanic and Atmospheric Administration

50 CFR Part 635

[I.D. 082701D]

Atlantic Highly Migratory Species; Atlantic Bluefin Tuna Fisheries

AGENCY: National Marine Fisheries Service (NMFS), National Oceanic and Atmospheric Administration (NOAA), Commerce.

ACTION: Adjustment of daily retention limit; inseason quota transfer.

SUMMARY: NMFS has determined that the Atlantic bluefin tuna (BFT) General category daily retention limit should be adjusted to two large medium or giant BFT per vessel. NMFS has also determined that the BFT General category restricted fishing day (RFD) schedule should be adjusted; i.e., certain RFDs should be waived to allow for maximum utilization of the General category subquota for the September fishing period. Therefore, NMFS increases the daily retention limit from zero to two large medium or giant BFT on the following previously designated RFDs for 2001: September 2, 3, 5, 9, 10, and 12. NMFS has also determined that a quota transfer to allow continued fishing in the Harpoon category is appropriate, and therefore transfers 15 metric tons (mt) from the Reserve to the Harpoon category for the remainder of the 2001 fishing year.

DATES: The retention limit adjustment for General category vessels is effective September 1, 2001 through September 15, 2001. The quota transfer to the Harpoon category is effective August 29, 2001 through May 31, 2002.

FOR FURTHER INFORMATION CONTACT: Pat Scida or Brad McHale, 978-281-9260.

SUPPLEMENTARY INFORMATION: Regulations implemented under the authority of the Atlantic Tunas Convention Act (16 U.S.C. 971 et seq.) and the Magnuson-Stevens Fishery Conservation and Management Act (Magnuson-Stevens Act; 16 U.S.C. 1801 et seq.) governing the harvest of BFT by persons and vessels subject to U.S. jurisdiction are found at 50 CFR part 635. Section 635.27 subdivides the U.S. BFT quota recommended by the International Commission for the Conservation of Atlantic Tunas among the various domestic fishing categories, and General category effort controls (including time-period subquotas and RFDs) are specified annually as required under 50 CFR 635.23 (a) and 635.27 (a). The initial 2001 BFT fishing category quotas and General category effort controls were specified on July 13, 2000 (66 FR 37421, July 18, 2001).

Adjustment of Daily Retention Limits

Under § 635.23 (a)(4), NMFS may increase or decrease the daily retention limit of large medium and giant BFT over a range from zero (on RFDs) to a maximum of three per vessel to allow for maximum utilization of the quota for BFT. Based on a review of dealer reports, daily landing trends, and the availability of BFT on the fishing grounds, NMFS has determined that an increase of the daily retention limit for the first half of September is appropriate and necessary to allow full use of the September subquota. Therefore, NMFS adjusts the daily retention limit for September 1 through September 15 to two large medium or giant BFT per vessel. Additionally, under 50 CFR 635.23 (a)(4), NMFS has determined that adjustment of the RFD schedule is also necessary to allow full use of the September subquota. Consequently, NMFS must increase the daily BFT retention limit for certain previously designated RFDs. Therefore, NMFS adjusts the daily retention limit for September 2, 3, 5, 9, 10, and 12, 2001, to two large medium or giant BFT per vessel. NMFS has selected these days in order to give adequate advance notice to fishery participants and NMFS enforcement.

The intent of these adjustments is to allow for maximum utilization of the General category subquotas for the September fishing period specified under 50 CFR 635.27 (a) to achieve optimum yield in the General category fishery, to collect a broad range of catch-effort data for stock monitoring purposes, and to be consistent with the objectives of the HMS FMP. For these same reasons, NMFS adjusted the General category daily retention limit on several occasions for previously scheduled RFDs over the last two years (64 FR 42855, August 6, 1999; 64 FR 51079, September 21, 1999; 65 FR 46654, July 31, 2000; and 65 FR 54970, September 12, 2000).

While BFT catch rates have been slow so far this season, NMFS recognizes that catch rates tend to increase in the fall fisheries. In order to ensure that the September subquota is not filled prematurely and to ensure equitable fishing opportunities in all areas and for all gear types, NMFS is adjusting the General category daily retention limit only through September 15 and NMFS is not waiving all the RFDs previously scheduled for September. After September 15, the daily BFT retention limit for vessels fishing under the General category quota reverts to one fish per day on authorized fishing days. Additionally, the scheduled RFDs for September 16, 17, 19, 23, 24, 26, 30, and October 1 and 3, remain in effect. If catch rates continue to be low after September 15, daily retention limits may be increased and some or all of the remaining previously scheduled RFDs may be waived as well.

Inseason Transfer to the Harpoon Category

Under the implementing regulations at 50 CFR 635.27 (a)(7), NMFS has the authority to allocate any portion of the Reserve to any category quota in the fishery, other than the Angling category school BFT subquota (for which there is a separate reserve), after considering the following factors: (1) The usefulness of information obtained from catches in the particular category for biological sampling and monitoring of the status of the stock; (2) the catches of the particular category quota to date and the likelihood of closure of that segment of the fishery if no allocation is made; (3) the projected ability of the vessels fishing under the particular category quota to harvest the additional amount of BFT before the end of the fishing year; (4) the estimated amounts by which quotas established for other gear segments of the fishery might be exceeded; (5) effects of the transfer on BFT rebuilding and overfishing; and (6) effects of the transfer on accomplishing the objectives of the HMS FMP.

The 2001 annual BFT quota specifications previously issued under § 635.27 provide for a quota of 55 mt of large medium and giant BFT to be harvested from the regulatory area by vessels fishing under the Harpoon category quota. As of August 23, 2001, Harpoon category landings totaled approximately 48 mt, with 7 mt available for the remainder of the season.

After considering the factors for making transfers between categories and from the Reserve, NMFS has determined that 15 mt of the remaining 41.9 mt of Reserve should be transferred to the Harpoon category. Thus, the Harpoon category quota is adjusted to 70 mt for the 2001 fishing year.

Once the adjusted Harpoon category quota has been attained, the Harpoon category will be closed. Announcement of the closure will be filed with the Office of the Federal Register, stating the effective date of closure, and further communicated through the Highly Migratory Species Fax Network, the Atlantic Tunas Information Line, NOAA weather radio, and Coast Guard Notice to Mariners. Although notification of closure will be provided as far in advance as possible, fishermen are encouraged to call the Atlantic Tunas Information Line at (888) USA-TUNA or (978) 281-9305, to check the status of the fishery before leaving for a fishing trip.

Classification

This action is taken under 50 CFR 635.23(a)(4) and is exempt from review under Executive Order 12866.

Authority: 16 U.S.C. 971 et seq. and 1801 et seq.

Dated: August 29, 2001.
Richard W. Surdi,
Acting Director, Office of Sustainable Fisheries, National Marine Fisheries Service.

[FR Doc. 01-22159 Filed 8-29-01; 4:49 pm]

BILLING CODE 3510-22-S